DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On August 23, 2023, OFAC determined that the property and interests in property subject to U.S. jurisdiction of the following persons are blocked under the relevant sanctions authority listed below.

Individuals:

1. TUN, Zaw Min (a.k.a. HTUN, Zaw Min), Burma; DOB 20 Jul 2001; POB Burma; nationality Burma; Gender Male; National ID No. 9/PABATHA(N)010135 (Burma) (individual) [BURMA-EO14014].

Designated pursuant to section 1(a)(i) of Executive Order 14014 of February 10, 2021, “Blocking Property With Respect to the Situation in Burma”, 86 FR 9429 (“E.O. 14014”) for operating in the jet fuel sector of the Burmese economy.

2. WIN, Khin Phyu (a.k.a. SHUI, Zhao Jia; a.k.a. SHWE, Kyauk Kyar; a.k.a. WIN, Kin Phyu), 1002, Shwe Than Lwin Condo, New University Avenue, Bahan Township, Yangon, Burma; No. 218, Building No. A, Level 16 A, No. 13 Ward, Insein Road, Hlaing Township, Yangon, Burma; DOB 10 Nov 1960; nationality Burma; Gender Female; National ID No. 13/THAPANA(AEI)000103 (Burma) (individual) [BURMA-EO14014].

Designated pursuant to section 1(a)(i) of E.O. 14014 for operating in the jet fuel sector of the Burmese economy.

Entities:

3. SHOON ENERGY PTE. LTD. (f.k.a. ASIA SUN AVIATION PTE. LTD.), Singapore; Organization Established Date 27 Jun 2018; Organization Type: Activities of holding companies; Registration Number 201821798H (Singapore) [BURMA-EO14014] (Linked To: WIN, Khin Phyu).

Designated pursuant to section 1(a)(i) of E.O. 14014 for operating in the jet fuel sector of the Burmese economy and for being owned or controlled by, or having acted or purported to act for or on behalf of, directly or indirectly, Khin Phyu Win, a person whose property and interests in property are blocked pursuant to E.O. 14014.

4. PEIA PTE. LTD. (f.k.a. PUMA ENERGY IRRAWADDY AVIATION PTE. LTD.), Singapore; Organization Established Date 30 Oct 2014; Organization Type: Activities of holding companies; Registration Number 201432465N (Singapore) [BURMA-EO14014] (Linked To: WIN, Khin Phyu).

Designated pursuant to section 1(a)(vii) of E.O. 14014 for being owned or controlled by, or having acted or purported to act for or on behalf of, directly or indirectly, Khin Phyu Win, a person whose property and interests in property are blocked pursuant to E.O. 14014.

5. P.E.I ENERGY PTE. LTD. (f.k.a. PUMA ENERGY MYANMAR PTE. LTD.; f.k.a. PUMA ENERGY BENGALE GULF PTE. LTD.; f.k.a. PUMA ENERGY IRRAWADDY PTE. LTD.), Singapore; Organization Established Date 17 Aug 2012; Organization Type: Activities of holding companies; Registration Number 201220511D (Burma) [BURMA-EO14014] (Linked To: WIN, Khin Phyu).

Designated pursuant to section 1(a)(vii) of E.O. 14014 for being owned or controlled by, or having acted or purported to act for or on behalf of, directly or indirectly, Khin Phyu Win, a person whose property and interests in property are blocked pursuant to E.O. 14014.

Authority: E.O. 14014, 86 FR 9429.

Dated: August 23, 2023.
Bradley T. Smith,
Deputy Director, Office of Foreign Assets Control, U.S. Department of the Treasury.

[FR Doc. 2023-18469 Filed 8-25-23; 8:45 am]

BILLING CODE 4810-AL-P